DEPARTMENT OF AGRICULTURE

Agricultural Marketing Service

[Doc. No. AMS-LS-10-0085]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension and revision of a currently approved information collection used to compile and generate the livestock and meat market reports for the Livestock and Grain Market News Branch of the Livestock and Seed Program.

DATES: Comments must be received on or before January 4, 2011.

Additional Information or Comments: Comments should be submitted electronically at http://www.regulations.gov. Comments may also be mailed to Jimmy A. Beard, Assistant to the Chief; Livestock and Grain Market News Branch, Livestock and Seed Program, Agricultural Marketing Service, U.S. Department of Agriculture; STOP 0252; Room 2619-S; 1400 Independence Avenue, SW.; Washington, DC 20250-0252. All comments should reference docket number AMS-LS-10-0085 and note the date and page number of this issue of the Federal Register.

Submitted comments will be available for public inspection at http://regulations.gov or at the above address during regular business hours. Comments submitted in response to this Notice will be included in the record and will be made available to the public. Please be advised that the identity of the individuals or entities submitting the comments will be made public on the Internet at the address provided above.

FOR FURTHER INFORMATION CONTACT: Jimmy A. Beard, Assistant to the Chief, Livestock and Grain Market News Branch, AMS, USDA, by telephone on 202/720-8054, or e-mail at: jimmy.beard@ams.usda.gov.

SUPPLEMENTARY INFORMATION: Title: Livestock and Meat Market Reports.

OMB Number: 0581-0154.

Expiration Date of Approval: 04-29-2011.

Type of Request: Extension and revision of a currently approved information collection.

Abstract: The Agricultural Marketing Act of 1946 (7 U.S.C. 1621-1627) directs and authorizes the collection and dissemination of marketing information including adequate outlook information, on a market area basis, for the purpose of anticipating and meeting consumer requirements aiding in the maintenance of farm income and to bring about a balance between production and utilization.

Under this market news program, AMS issues market news reports covering the livestock and meat trade, which encompasses a wide range of industry contacts, including packers, processors, producers, brokers, and retailers. These reports are compiled on a voluntary basis, in cooperation with the livestock and meat industry. The information provided by respondents initiates market news reporting, which must be timely, accurate, unbiased, and continuous if it is to be meaningful to the industry. The livestock and meat industry requested that AMS issue livestock and meat market reports in order to assist them in making informed production and marketing decisions. In addition, several Government agencies that purchase meat for various Federal programs use this data in making their purchasing decisions. The information must be collected, compiled, and disseminated by an impartial third-party, in a manner which protects the confidentiality of the reporting entity. AMS is in the best position to provide this service.

Estimate of Burden: Public reporting burden for this collection of information is estimated at .0833 hours per response.

Respondents: Business or other for-profit, individuals or households, farms, and the Federal Government.

Estimated Number of Respondents: 990.

Estimated Total Annual Responses: 124,740.

Estimated Number of Responses per Respondent: 126.

Estimated Total Annual Burden on Respondents: 10,391 hours.

Comments are invited on: (1) Whether the proposed collection of information is necessary for the proper performance of the functions of the Agency, including whether the information will have practical utility; (2) the accuracy of the Agency's estimate of the burden of the proposed collection of information, including the validity of the methodology and assumptions used; (3) ways to enhance quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: November 2, 2010.
David R. Shipman,
Acting Administrator.

[FR Doc. 2010-28043 Filed 11-4-10; 8:45 am]

BILLING CODE 3410-02-P